DEPARTMENT OF AGRICULTURE

Forest Service

Information Collection; Recreation Administration Permit and Fee Envelope

AGENCY: Forest Service, USDA.

ACTION: Notice; request for comment.

SUMMARY: In accordance with the Paperwork Reduction Act of 1995, (44 U.S.C. Chapter 35), this notice announces the Forest Service's intention to revise and rename an information collection associated with recreation permits and fees and request extension approval of the information collection retitled National Recreation Program Administration from the Office of Management and Budget.

DATES: Comments must be received in writing on or before September 4, 2012 to be assured of consideration. Comments received after that date will be considered to the extent practicable.

ADDRESSES: Comments concerning this notice should be addressed to Nancy Stremple, Recreation, Heritage, and Volunteer Resources Staff, Mail Stop 1125, USDA Forest Service, 1400 Independence Ave. SW., Washington, DC 20250.

Comments also may be submitted via facsimile to Nancy Stremple at 202-205-1145 or by email to: recreation2300@fs.fed.us.

The public may inspect comments received at the Office of the Director, Recreation, Heritage and Volunteer Resources Staff, 4th Floor South, Sidney R. Yates Federal Building, 14th and Independence Avenue SW., Washington, DC on business days between the hours of 8:30 a.m. and 4:00 p.m. Visitors are encouraged to call ahead to 202-205-1169 to facilitate entry to the building.

FOR FURTHER INFORMATION CONTACT: Nancy Stremple, Recreation, Heritage, and Volunteer Resources Staff, at 202-205-1169 or recreation2300@fs.fed.us. Individuals who use telecommunication devices for the deaf (TDD) may call the Federal Relay Service (FRS) at 1-800-877-8339 twenty-four hours a day, every day of the year, including holidays.

SUPPLEMENTARY INFORMATION:

Title: Recreation Administration Permit and Fee Envelope.

OMB Numbers: 0596-0106.

Expiration Date of Approval: 01/31/2013.

Type of Request: Revision and Extension of approval of an information collection.

Abstract: The Federal Lands Recreation and Enhancement Act (16 U.S.C. 6801-6814) authorizes the Forest Service to issue permits and charge fees for recreation uses of Federal recreational lands and waters, such as group activities, recreation events and motorized recreational vehicle use. In addition, permits may be issued as a means to disperse use, protect natural and cultural resources, provide for the health and safety of visitors, allocate capacity, and/or help cover the higher costs of providing specialized services.

With this revision, Forest Service is including information collection requirements currently approved by OMB control number 0596-0019 “Visitor Permit and Visitor Registration Card” (Expires 05/31/2013) and additionally to add two new National Recreation forms, FS-2300-47 and FS-2300-48. After OMB approves and combines the burden for the collection under a single collection retitled “National Recreation Program Administration” (0596-0106), the Department will retire number 0596-0019.

The new FS-2300-47, National Recreation Application, is a form used to apply for a recreation permit. Information collected for FS-2300-47 includes the applicant's name, address, phone number and email address, location and activity type, date and time of requested use, itinerary, number in party, entry and exit points, day or overnight use, method of travel (if applicable), group organization or event name (if applicable), group leader name and contact information (if applicable), vehicle or boat registration and license number and State of issue (if applicable), type and number of boats, stock or off-highway vehicles (if applicable), and assessed fee and method of payment (if applicable).

The new FS-2300-48, National Recreation Permit, is a form used to authorize specific activities at particular facilities or areas. Information collected for FS-2300-48 includes the group or individual's name, responsible person's signature, address, phone number, date of permit, method of travel, license number and description of vehicle and tow type, payment method and amount, number and types of water craft (if applicable), number in a group at a cabin or campsite (if applicable), number and type of off-highway vehicles or other vehicles, and number and type of other use (if applicable).

This information is used to manage the application process and to issue permits for recreation uses of Federal recreational lands and waters. The information will be collected by Federal employees and agents who are authorized to collect recreation fees and/or issue recreation permits. Name and contact information will be used to inform applicants and permit holders of their success in securing a permit for a special area. Number in group, number and type of vehicles, water craft, or stock may be used to assure compliance with management area direction for recreational lands and waters and track visitation trends. A national forest may use ZIP codes to help determine where the national forest's visitor base originates. Activity information may be used to improve services. Personal information such as names, addresses, phone numbers, email addresses, and vehicle registration information will be secured and maintained in accordance with the system of records, National Recreation Reservation System (NRRS) USDA/FS-55.

FS-2300-26, Recreation Fee Permit Envelope. Information collected includes the amount enclosed in the envelope, number of days paid, time and date of purchase, visitor's vehicle license number and registered State, visitor's home ZIP code, number in party, other charges (if applicable), visitor's Interagency Pass/Golden Passport or Regional/Forest Pass number (if applicable), planned departure date (if applicable), site name, camp's site type: Single campsite or group campsite (if applicable), campsite number (if applicable), and the number in group.

FS-2300-26a is the same form as FS-2300-26. The difference is the color of the form is different to signify a specific region's use.

FS-2300-30, Visitor's Permit. Information collected includes the Visitor's name and address, area(s) to be visited, dates of visit, length of stay, location of entry and exit points, method of travel, number of people in the group, and where applicable, the number of pack and saddle stock (that is, the number of animals either carrying people or their gear), the number of dogs, and the number of watercraft and/or vehicles (where allowed).

The Forest Service employee who completes the Visitor's Permit will note on the permit any special restrictions or important information the visitor should know. The visitor receives a copy of the permit and instructions to keep the permit with them for the duration of the visit.

FS-2300-32, Visitor Registration Card. Information collected includes the Visitor's name and address, area(s) to be visited, dates of visit, length of stay, location of entry and exit points, method of travel, number of people in the group, and where applicable, the number of pack and saddle stock (that is, the number of animals either carrying people or their gear) in the group, the number of dogs, and the number of watercraft and/or vehicles (where allowed).

FS-2300-43, Permit for Short-Term, Noncommercial Use of Government-Owned Cabins and Lookouts is used to record contact information including name, address, and telephone number, requested dates of occupancy, party size, and additional items if applicable, such as number of pack animals and/or snowmobiles. If unable to collect this information, national forests would not be able to manage their permit programs or disperse use, protect natural and cultural resources, provide for the health and safety of visitors, allocate capacity, and/or help cover the higher costs of providing specialized services on National Forest System recreational lands.

Estimate of Annual Burden: 3-15 minutes.

Type of Respondents: Individuals.

Estimated Annual Number of Respondents: 2,598,000.

Estimated Annual Number of Responses per Respondent: 1.

Estimated Total Annual Burden on Respondents: 123,996 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: June 29, 2012.
James M. Peña,
Associate Deputy Chief, National Forest System.

[FR Doc. 2012-16503 Filed 7-5-12; 8:45 am]

BILLING CODE 3410-11-P